DEPARTMENT OF THE INTERIOR

National Park Service

[NPS-NER-GOIS-11606; 4925-726]

Minor Boundary Revision at Governors Island National Monument

AGENCY: National Park Service, Interior.

ACTION: Notification of Boundary Revision.

SUMMARY: Notice is hereby given that, pursuant to 16 U.S.C. 460l-9(c)(1)(ii), the boundary of Governors Island National Monument is modified to include an additional 0.13-acre of adjacent submerged land identified as Tract 01-106. Upon inclusion in the national monument, the tract will be conveyed at no cost to the United States for use in maintaining a dock necessary to provide safe waterborne access to the island. The boundary revision is depicted on Map No. 019/107522A dated August 17, 2011. The map is available for inspection at the following locations: National Park Service, Northeast Land Resources Program Center, New England Office, 115 John Street, Fifth Floor, Lowell, Massachusetts 01852, and National Park Service, Department of the Interior, Washington, DC 20240.

FOR FURTHER INFORMATION CONTACT: Superintendent Patti Reilly, Governors Island National Monument, 10 South Street—Slip 7, New York, New York 10004, telephone (212) 825-3055.

DATES: The effective date of this boundary revision is January 22, 2013.

SUPPLEMENTARY INFORMATION: 16 U.S.C. 460l-9(c)(1)(ii) provides that, after notifying the House Committee on Natural Resources and the Senate Committee on Energy and Natural Resources, the Secretary of the Interior is authorized to make this boundary revision upon publication of notice in the Federal Register. The Committees have been notified of this boundary revision. This boundary revision and subsequent acquisition of Tract 01-106 will enable the National Park Service to manage and maintain a floating dock that has been installed to provide safe access to the island for ferry passengers.

Dated: November 27, 2012.
Dennis R. Reidenbach,
Regional Director, Northeast Region.

[FR Doc. 2013-01305 Filed 1-22-13; 8:45 am]

BILLING CODE P